DEPARTMENT OF ENERGY

Federal Energy Regulatory Commission

Combined Notice of Filings #2

Take notice that the Commission received the following electric rate filings:

Docket Numbers: ER25-1313-000.

Applicants: Tibbits Energy Storage LLC.

Description: Initial Rate Filing: Baseline new to be effective 4/1/2025.

Filed Date: 2/14/25.

Accession Number: 20250214-5197.

Comment Date: 5 p.m. ET 3/7/25.

Docket Numbers: ER25-1314-000.

Applicants: Seiling Wind Energy II, LLC.

Description: § 205(d) Rate Filing: Application for Market-Based Rate Authorization to be effective 4/16/2025.

Filed Date: 2/14/25.

Accession Number: 20250214-5198.

Comment Date: 5 p.m. ET 3/7/25.

Docket Numbers: ER25-1315-000.

Applicants: Willow Creek Wind Project, LLC.

Description: § 205(d) Rate Filing: Application for Market-Based Rate Authorization to be effective 4/16/2025.

Filed Date: 2/14/25.

Accession Number: 20250214-5203.

Comment Date: 5 p.m. ET 3/7/25.

Docket Numbers: ER25-1316-000.

Applicants: Luna Valley Solar I, LLC.

Description: § 205(d) Rate Filing: Amended Shared Facilities Common Ownership Agreement and Request for Waivers to be effective 4/16/2025.

Filed Date: 2/14/25.

Accession Number: 20250214-5206.

Comment Date: 5 p.m. ET 3/7/25.

Docket Numbers: ER25-1317-000.

Applicants: Salt Creek Wind LLC, Mammoth Plains Wind, LLC.

Description: § 205(d) Rate Filing: Mammoth Plains Wind, LLC submits tariff filing per 35.12: Application for Market-Based Rate Authorization to be effective 4/16/2025.

Filed Date: 2/14/25.

Accession Number: 20250214-5209.

Comment Date: 5 p.m. ET 3/7/25.

Docket Numbers: ER25-1318-000.

Applicants: Invenergy TN LLC.

Description: Tariff Amendment: Notice of Cancellation of Market Based Rate Tariff to be effective 3/31/2025.

Filed Date: 2/14/25.

Accession Number: 20250214-5216.

Comment Date: 5 p.m. ET 3/7/25.

Docket Numbers: ER25-1319-000.

Applicants: Cadence Solar Energy LLC.

Description: Initial Rate Filing: Application for Market-Based Rate Authority to be effective 2/14/2025.

Filed Date: 2/14/25.

Accession Number: 20250214-5229.

Comment Date: 5 p.m. ET 3/7/25.

Docket Numbers: ER25-1319-001.

Applicants: Cadence Solar Energy LLC.

Description: Tariff Amendment: Amendment to Application for MBR Authorization to be effective 2/15/2025.

Filed Date: 2/18/25.

Accession Number: 20250218-5000.

Comment Date: 5 p.m. ET 3/11/25.

Docket Numbers: ER25-1320-000.

Applicants: Luna Valley Storage LLC.

Description: § 205(d) Rate Filing: Certificates of Concurrence and Request for Waivers and Blanket Approvals to be effective 4/16/2025.

Filed Date: 2/14/25.

Accession Number: 20250214-5236.

Comment Date: 5 p.m. ET 3/7/25.

Docket Numbers: ER25-1321-000.

Applicants: Trade Post Solar LLC.

Description: Initial Rate Filing: Application for Market-Based Rate Authorization to be effective 2/15/2025.

Filed Date: 2/14/25.

Accession Number: 20250214-5237.

Comment Date: 5 p.m. ET 3/7/25.

Docket Numbers: ER25-1322-000.

Applicants: Sequoia Renewables LLC.

Description: § 205(d) Rate Filing: Certificates of Concurrence and Request for Waivers and Blanket Approvals to be effective 4/16/2025.

Filed Date: 2/14/25.

Accession Number: 20250214-5239.

Comment Date: 5 p.m. ET 3/7/25.

Docket Numbers: ER25-1323-000.

Applicants: Southwest Power Pool, Inc.

Description: § 205(d) Rate Filing: 4365 Fly Gap Solar Surplus Interconnection GIA to be effective 4/19/2025.

Filed Date: 2/18/25.

Accession Number: 20250218-5063.

Comment Date: 5 p.m. ET 3/11/25.

Docket Numbers: ER25-1324-000.

Applicants: ISO New England Inc., Eversource Energy Service Company (as agent).

Description: Compliance filing: ISO New England Inc. submits tariff filing per 35: RENEW Northeast Inc. vs ISO New England and PTO AC; Docket EL23-16 and ER25- to be effective 12/19/2024.

Filed Date: 2/18/25.

Accession Number: 20250218-5092.

Comment Date: 5 p.m. ET 3/11/25.

Docket Numbers: ER25-1326-000.

Applicants: Southwest Power Pool, Inc.

Description: § 205(d) Rate Filing: 4364 Anvil Solar Surplus Interconnection GIA to be effective 4/19/2025.

Filed Date: 2/18/25.

Accession Number: 20250218-5103.

Comment Date: 5 p.m. ET 3/11/25.

Docket Numbers: ER25-1327-000.

Applicants: Midcontinent Independent System Operator, Inc., ALLETE, Inc.

Description: § 205(d) Rate Filing: ALLETE, Inc. submits tariff filing per 35.13(a)(2)(iii: 2025-02-18_SA 4409 ALLETE-GRE T-L IA to be effective 2/19/2025.

Filed Date: 2/18/25.

Accession Number: 20250218-5114.

Comment Date: 5 p.m. ET 3/11/25.

Docket Numbers: ER25-1328-000.

Applicants: Midcontinent Independent System Operator, Inc.

Description: § 205(d) Rate Filing: 2025-02-18_SA 2155 Ameren Illinois-Bishop Hill 3rd Rev GIA (G545) to be effective 2/12/2025.

Filed Date: 2/18/25.

Accession Number: 20250218-5118.

Comment Date: 5 p.m. ET 3/11/25.

Docket Numbers: ER25-1329-000.

Applicants: Midcontinent Independent System Operator, Inc.

Description: § 205(d) Rate Filing: 2025-02-18_SA 3764 Termination of ATC-WPL E&P (J1304) to be effective 2/19/2025.

Filed Date: 2/18/25.

Accession Number: 20250218-5121.

Comment Date: 5 p.m. ET 3/11/25.

Docket Numbers: ER25-1330-000.

Applicants: AEP Texas Inc.

Description: § 205(d) Rate Filing: AEPTX-Saragosa Del Sol 1st Amended Generation Interconnection Agreement to be effective 1/25/2025.

Filed Date: 2/18/25.

Accession Number: 20250218-5126.

Comment Date: 5 p.m. ET 3/11/25.

Docket Numbers: ER25-1331-000.

Applicants: New York Independent System Operator, Inc.

Description: § 205(d) Rate Filing: NYISO 205: Revision to Regulation Movement Multiplier Definition to be effective 5/1/2025.

Filed Date: 2/18/25.

Accession Number: 20250218-5149.

Comment Date: 5 p.m. ET 3/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: February 18, 2025.
Carlos D. Clay,
Deputy Secretary.

[FR Doc. 2025-03016 Filed 2-24-25; 8:45 am]

BILLING CODE 6717-01-P